ENVIRONMENTAL PROTECTION AGENCY

[EPA-HQ-OAR-2022-0052; FRL-12998-01-OMS]

Agency Information Collection Activities; Submission to the Office of Management and Budget for Review and Approval; Comment Request; NSPS for Incinerators (Renewal)

AGENCY: Environmental Protection Agency (EPA).

ACTION: Notice.

SUMMARY: The Environmental Protection Agency (EPA) has submitted an information collection request (ICR), NSPS for Incinerators (Renewal) (EPA ICR Number 1058.16, OMB Control Number 2060-0040) to the Office of Management and Budget (OMB) for review and approval in accordance with the Paperwork Reduction Act. This is a proposed extension of the ICR, which is currently approved through September 30, 2025. Public comments were previously requested via the Federal Register on June 17, 2025 during a 60-day comment period. This notice allows for an additional 30 days for public comments.

DATES: Additional comments may be submitted on or before October 27, 2025.

ADDRESSES: Submit your comments, referencing Docket ID Number EPA-HQ-OAR-2022-0052, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through September 30, 2025. An agency may not conduct or sponsor and a person is not required to respond to a collection of information unless it displays a currently valid OMB control number.

Public comments were previously requested via the Federal Register on June 17, 2025 during a 60-day comment period (90 FR 25614). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Incinerators (40 CFR part 60, subpart E) were proposed on July 25, 1977, and amended on May 10, 2006. These regulations apply to existing incinerators that charge more than 45 metric tons per day (50 tons per day) of solid waste, and that commenced either construction or modification after August 17, 1971. Solid waste is defined as refuse, more than 50 percent of which is municipal type waste consisting of a mixture of paper, wood, yard wastes, food wastes, plastics, leather, rubber, and other combustibles, and noncombustible materials such as glass and rock. New incinerators will be subject to either 40 CFR part 60, subpart Eb, or 40 CFR part 60, subpart AAAA. Additionally, incinerators that are covered by either 40 CFR part 60, subparts Cb, Eb, AAAA, or BBBB; or by an EPA-approved State section 111(d)/129 plan implementing subpart Cb or BBB; or by 40 CFR part 62, subpart FFF or JJJ, not subject to the above standards. This information is being collected to assure compliance with 40 CFR part 60, subpart E.

Form Numbers: None.

Respondents/affected entities: Existing incinerators that charge more than 45 metric tons per day.

Respondent's obligation to respond: Mandatory (40 CFR part 60, subpart E).

Estimated number of respondents: 47 (total).

Frequency of response: Initially and occasionally.

Total estimated burden: 4,860 hours (per year). Burden is defined at 5 CFR 1320.3(b).

Total estimated cost: $697,000 (per year), includes $187,000 annualized capital or operation & maintenance costs.

Changes in the estimates: There is an adjustment increase in the total estimated burden as currently identified in the OMB Inventory of Approved Burdens. This increase is not due to any program changes. The adjustment increase in burden from the most recently approved ICR is due to a correction in the number of existing sources based on a review of sources listed in the EPA's ECHO database. There is an increase in O&M costs which is due to adjusting to 2024 $ using the CEPCI CE Index. This ICR additionally corrects response count from the most recently approved ICR in the table Total Annual Responses. There is no change in burden due to this correction.

Courtney Kerwin,
Director, Information Engagement Division.

[FR Doc. 2025-18603 Filed 9-24-25; 8:45 am]

BILLING CODE 6560-50-P